DEPARTMENT OF COMMERCE

Census Bureau

Agency Information Collection Activities; Submission to the Office of Management and Budget (OMB) for Review and Approval; Comment Request; 2024 American Community Survey (ACS) Sexual Orientation and Gender Identity Test

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 19, 2023, during a 60-day comment period. This notice allows for an additional 30 days for public comments.

Agency: U.S. Census Bureau, Department of Commerce.

Title: American Community Survey (ACS) Methods Panel: 2024 Sexual Orientation and Gender Identity (SOGI) Test.

OMB Control Number: 0607-0936.

Form Number(s): Paper questionnaires: ACS-1(X)SGO, ACS-1(X)SGA; ACS internet electronic instrument (no form number), ACS CAPI(HU) electronic instrument (no form number), ACS Content Follow-up internet and CATI electronic instruments (no form numbers).

Type of Request: Regular submission, Request for a Revision of a Currently Approved Collection.

Number of Respondents: 281,000 respondents to the initial interview; 88,000 respondents to the Content Follow-up reinterview.

Average Hours per Response: 40 minutes for the initial interview; 20 minutes for the Content Follow-up reinterview.

Burden Hours: 216,819 hours.

| Estimated number of respondents | Estimated burden (in hours) | Total estimated burden hours
Initial Interview | 281,000 | 0.667 | 187,427
Content Follow-up Reinterview | 88,000 | 0.334 | 29,392
Total |  |  | 216,819

Needs and Uses: The information collected in the 2024 ACS SOGI test will be used to evaluate the quality of data from questions on sexual orientation and gender identity. The research will inform recommendations for potential production ACS implementation on question wording and response options, whether a confirmation question is asked of everyone or only of those people with discrepant responses for sex at birth and current gender identity, and the style of write-in boxes to use for internet respondents. The data will also be used to produce descriptive statistics on the test topics, assess the impact on other questions on the survey that have changed, and gain insight into terminology by analyzing write-in responses and responses to qualitative questions asked in the test. Data will be assessed by mode of response as well as type of respondent (proxy or self-reported data), in addition to other sub-groups of interest.

Because the questions being tested under this clearance have yet to be asked in the American Community Survey, the data gathered will not be considered official statistics of the Census Bureau or other Federal agencies. Test results will be included in research reports that will be published on the Census Bureau's website. Results may also be prepared for presentations at professional meetings and conferences or for publication in professional journals. All published test results will be statistical products that contain only aggregated data that do not reveal individual responses.

Details of the questions being tested and test plans are available in Supporting Statements A and B and associated attachments. See directions below for how to find these documents online on www.reginfo.gov.

Affected Public: Individuals or households.

Frequency: This is a one-time test.

Respondent's Obligation: Mandatory.

Legal Authority: Title 13 U.S.C. 141, 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0936.

Sheleen Dumas,
Department PRA Clearance Officer, Office of the Under Secretary for Economic Affairs, Commerce Department.

[FR Doc. 2024-09101 Filed 4-26-24; 8:45 am]

BILLING CODE 3510-07-P